DEPARTMENT OF TRANSPORTATION

Maritime Administration

[Docket Number: MARAD-2000-7273]

Requested Administrative Waiver of the Coastwise Trade Laws

AGENCY: Maritime Administration, Department of Transportation.

ACTION: Invitation for public comments on a requested administrative waiver of the Coastwise Trade Laws for the vessel MIMI.

SUMMARY: As authorized by Public Law 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub.L. 105-383 and MARAD's regulations at 46 CFR part 388 (65 FR 6905; February 11, 2000) that the issuance of the waiver will have an unduly adverse effect on a U.S.-vessel builder or a business that uses U.S.-flag vessels, a waiver will not be granted.

DATES: Submit comments on or before May 26, 2000.

ADDRESSES: Comments should refer to docket number MARAD-2000-7273. Written comments may be submitted by hand or by mail to the Docket Clerk, U.S. DOT Dockets, Room PL-401, Department of Transportation, 400 7th St., SW, Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Michael Hokana, U.S. Department of Transportation, Maritime Administration, MAR-832 Room 7201, 400 Seventh Street, SW, Washington, DC 20590. Telephone 202-366-0760.

SUPPLEMENTARY INFORMATION: Title V of Pub. L. 105-383 provides authority to the Secretary of Transportation to administratively waive the U.S.-build requirements of the Jones Act, and other statutes, for small commercial passenger vessels (less than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-Build Requirement

(1) Name of vessel and owner for which waiver is requested: Name of vessel: S/V MIMI. Owner: George G. Story, Alan M. Story & Spiro N. Cocotas; Three Mates, Inc.

(2) Size, capacity and tonnage of vessel: According to the Applicant: “LOD: 58.5′—BOD: 19.5′—Draft: 7.7′—Mainmast: 63.5′. Gross: 36 Tons—Net: 31 Tons.”

(3) Intended use for vessel, including geographic region of intended operation and trade: According to the applicant: “Charter; revolving around, but not limited to, education and research work. MIMI presently works widely along the East Coast, into the Gulf of Mexico and rarely beyond twenty miles offshore.” (4) Date and place of construction and (if applicable) rebuilding: Date of construction: 1931, place of construction: Camaret, France.

(5) A statement on the impact this waiver will have on other commercial passenger vessel operators: According to the applicant: “The Sailing Vessel MIMI, for the past seventeen years, has worked solely in education. After the filmed production of the educational curriculums “The Voyage of the MIMI” in 1982 then “The Second Voyage of the MIMI” two years later, a demand for the curriculum platform, the S/V MIMI, to tour the east coast became wide spread. In the course of the school year the vessel now sails four thousand nautical miles along the Eastern United States and shares the nautical life of it's crew, along with other points of related nautical interests, such as navigation, mechanical advantage, knot tying and seamanship, with as many as forty-five thousand elementary and middle school students. The MIMI curriculum, which was originally sponsored through a collaboration between the United States Department of Education, Bank Street college of Education and the Public Broadcasting System, is today seen by, and worked with, well over one million students, through over twenty-one thousand schools systems nation wide, annually. Sailing MIMI to all of the areas the curriculum services is impossible. Making MIMI available to teachers during the vacationing periods of the year, will further update and carry the curriculum to the classroom through the teacher's experiences aboard the vessel. The S/V MIMI, operating within its not-for-profit status, will be utilized as an uninspected vessel, carrying only six fared passengers, two crewmembers and one cook, in a near coastal situation. By the nature of MIMI's reputation and fame, no other vessel can deliver this experience; since there is no other recognizable MIMI, there is no impact on other existing businesses of this kind, simply because there are none to impact upon. Also, ever since MIMI's homeport has been Gloucester, Massachusetts, all maintenance and repairs, as well as a major rebuilding during the summer of 1995, have been made with U.S. materials and U.S. labor, in U.S. shipyards, the vessel itself is operated by U.S. personnel and all completely paid for with U.S. money earned here in the United States.”

(6) A statement on the impact this waiver will have on U.S. shipyards: According to the applicant: “For all of the aforementioned reasons, it appears as though the impact on United States coastwise trade and United States shipyards is a positive impact, not a negative one, and will always continue to be.”

By Order of the Maritime Administrator.
Dated: April 21, 2000.
Joel C. Richard,
Secretary, Maritime Administration.

[FR Doc. 00-10397 Filed 4-25-00; 8:45 am]

BILLING CODE 4910-81-P